NUCLEAR REGULATORY COMMISSION

[Docket Nos. 50-254 and 50-265]

Commonwealth Edison Company and Midamerican Energy Company; Notice of Withdrawal of Application for Amendment to Facility Operating License

The U.S. Nuclear Regulatory Commission (the Commission) has granted the request of Commonwealth Edison Company (ComEd, or the licensee) to withdraw its August 31, 1998, application for proposed amendments to Facility Operating Licenses Nos. DPR-29 and DPR-30 for the Quad Cities Nuclear Power Station, Units 1 and 2, located in Rock Island County, Illinois.

The proposed amendment would have revised the maximum allowable Main Steam Isolation Valve leakage from 11.5 standard cubic feet per hour (scfh) to 30.0 scfh when tested at 25 psig, in accordance with Technical Specification Surveillance Requirement 4.7.D.6.

The Commission had previously issued a Notice of Consideration of Issuance of Amendment published in the Federal Register on September 23, 1998 (63 FR 50935). However, by letter dated December 17, 1999, the licensee withdrew the proposed change.

For further details with respect to this action, see the application for amendment dated August 31, 1998, and the licensee's letter dated December 17, 1999, which withdrew the application for license amendment. The above documents are available for public inspection at the Commission's Public Document Room, the Gelman Building, 2120 L Street, NW.,Washington, DC, and accessible electronically through the ADAMS Public Electronic Reading Room link at the NRC Web site ­ (http://www.nrc.gov).

Dated at Rockville, Maryland, this 17th day of March 2000.
For the Nuclear Regulatory Commission.
Stewart N. Bailey,
Project Manager, Section 2, Project Directorate III, Division of Licensing Project Management, Office of Nuclear Reactor Regulation.

[FR Doc. 00-7240 Filed 3-22-00; 8:45 am]

BILLING CODE 7590-01-P